DEPARTMENT OF THE INTERIOR

Minerals Management Service (MMS)

Notice on Outer Continental Shelf Oil and Gas Lease Sales

AGENCY: Minerals Management Service, Interior.

ACTION: List of restricted joint bidders.

SUMMARY: Pursuant to the authority vested in the Director of the Minerals Management Service by the joint bidding provisions of 30 CFR 256.41, each entity within one of the following groups shall be restricted from bidding with any entity in any other of the following groups at Outer Continental Shelf oil and gas lease sales to be held during the bidding period November 1, 2002, through April 30, 2003.

Group I. Exxon Mobil Corporation and ExxonMobil Exploration Company.

Group II. Shell Oil Company, Shell Offshore Inc., Shell Frontier Oil & Gas Inc., Shell Consolidated Energy Resources Inc., Shell Land & Energy Company, Shell Onshore Ventures Inc., Shell Offshore Properties and Capital II, Inc., Shell Rocky Mountain Production LLC, and Shell Gulf of Mexico Inc.

Group III. BP America Production Inc., BP Products North America Inc., BP Exploration & Production Inc., and BP Exploration (Alaska) Inc.

Group IV. TotalFinaElf E&P USA, Inc.

Group V. ChevronTexaco Corporation, Chevron U.S.A. Inc., Texaco Inc., and Texaco Exploration and Production Inc.

Dated: October 7, 2002.
R.M. Burton,
Director, Minerals Management Service.

[FR Doc. 02-27668 Filed 10-30-02; 8:45 am]

BILLING CODE 4310-MR-P